DEPARTMENT OF ENERGY

Federal Energy Regulatory Commission

[Docket No. RP10-829-000]

Southern LNG Company, L.L.C.; Notice of Technical Conference

August 25, 2010.

Take notice that Commission Staff will convene a technical conference in the above-referenced proceeding on Tuesday, September 14, 2010, at 9 a.m. (EST), in a room to be designated at the offices of the Federal Energy Regulatory Commission, 888 First Street, NE., Washington, DC 20426.

On June 7, 2010, Southern LNG Company, L.L.C. (Southern LNG) filed a tariff sheet to revise its tariff with respect to gas quality and interchangeability. On July 28, 2010, the Commission accepted and suspended Southern LNG's proposed tariff sheet, to become effective January 1, 2011, or an earlier date set by subsequent Commission order, subject to conditions and the outcome of a technical conference.¹ During the technical conference, Commission Staff and interested persons will have the opportunity to discuss all of the issues raised by Southern LNG's filing.

¹ 132 FERC ¶ 61,076 (2010).

Southern LNG should be prepared to address all concerns raised by South Carolina Electric & Gas Company in its protest to the filing, and to provide additional technical, engineering, and operational support for its proposed gas quality and interchangeability standards. Consistent with the Commission's policy statement on gas quality issues, Southern LNG should also be prepared to explain how its proposal conforms with or differs from the Interim Guidelines and principles. See Natural Gas Interchangeability, Policy Statement on Provisions Governing Natural Gas Quality and Interchangeability in Interstate Natural Gas Pipeline Company Tariffs, 115 FERC ¶ 61,325 at P 34, 37 (2006).

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Jennifer Kunz at (202) 502-6102 or e-mail Jennifer.Kunz@ferc.gov.

Kimberly D. Bose,
Secretary.

[FR Doc. 2010-21793 Filed 8-31-10; 8:45 am]

BILLING CODE 6717-01-P